DEPARTMENT OF JUSTICE

Notice of Lodging of Consent Decree Under the Comprehensive Environmental Response, Compensation, and Liability Act (“CERCLA”)

Consistent with Departmental policy, 28 CFR 50.7 and 38 FR 19029, notice is hereby given that on November 13, 2001, a proposed Consent Decree in United States v. Frederick Gendron, et al., Civil Action No. 01-422-JD, was lodged with the United States District Court for the District of New Hampshire. The proposed Consent Decree will resolve the United States' claim under the Comprehensive Environmental Response, Compensation, and Liability Act of 1980, 42 U.S.C. 9607, as amended (“CERCLA”), on behalf of the U.S. Environmental Protection Agency (“EPA”) against the defendant relating to the Gendron Junkyard Site located at 11-13 Hobbs Road in Pelham, New Hampshire (the “Site”). The Complaint alleges that the defendants are liable under Section 107 of CERCLA, 42 U.S.C. 9607, for recovery of response costs incurred at or in connection with the release or threatened release of hazardous substances at the Site.

The Consent Decree requires the Settling Defendants to pay to the U.S. EPA Hazardous Substance Superfund $650,000 in reimbursement of past response costs, and includes a covenant not to use by the United States.

The Department of Justice will receive for a period of thirty (30) days from the date of this publication comments relating to the proposed consent decree. Any comments should be addressed to the Assistant Attorney General of the Environmental and Natural Resource Division, Department of Justice, P.O. Box 7611, Ben Franklin Station, Washington, DC 20044-7611, and should refer to United States v. Frederick Gendron, et al., Civil Action No. 01-422-JD, Ref. 90-11-3-07116.

The proposed Consent Decree may be examined at the Office of the United States Attorney, District of New Hamsphire, U.S. Department of Justice, 55 Pleasant Street, Room 352, Concord, New Hamsphire, 03301-3904, and at U.S. EPA New England (Region 1), One Congress Street, Suite 1100, Boston, Massachusetts, 02114-2023. A copy of the proposed consent decree may be obtained by mail from the Consent Decree Library, P.O. Box 7611, Washington, DC 20044-7611. In requesting a copy, please enclose a check (there is a 25 cent per page reproduction cost) in the amount of $6.00 payable to the Consent Decree Library.

Ronald Gluck,
Assistant Section Chief, Environmental Enforcement Section, Environment and Natural Resources Division, U.S. Department of Justice.

[FR Doc. 01-31790 Filed 12-26-01; 8:45 am]

BILLING CODE 4410-15-M